DEPARTMENT OF COMMERCE

International Trade Administration

[A-549-822]

Certain Frozen Warmwater Shrimp From Thailand; Preliminary Results of Antidumping Duty Administrative Review and Preliminary Determination of No Shipments; 2015-2016

AGENCY: Enforcement and Compliance, International Trade Administration, Department of Commerce.

SUMMARY: The Department of Commerce (Department) is conducting an administrative review of the antidumping duty order on certain frozen warmwater shrimp (shrimp) from Thailand. The review covers 160 producers/exporters of the subject merchandise. The Department selected two mandatory respondents for individual examination: A Foods 1991 Co., Limited and May Ao Foods Co., Ltd. (collectively, Mayao); and Thai Union/Pakfood, which consists of Thai Union Group Public Co., Ltd. (also known as Thai Union Frozen Products Public Co., Ltd.), Thai Union Seafood Company Limited, Pakfood Public Company Limited, Asia Pacific (Thailand) Co., Ltd., Chaophraya Cold Storage Co. Ltd., Okeanos Co. Ltd., Okeanos Food Co. Ltd., and Takzin Samut Co. Ltd. The period of review (POR) is February 1, 2015, through January 31, 2016. We preliminarily determine that sales to the United States have been made below normal value and, therefore, are subject to antidumping duties. Additionally, we preliminarily determine that certain companies for which we initiated a review did not have any shipments during the POR. If these preliminary results are adopted in the final results of this review, we will instruct U.S. Customs and Border Protection (CBP) to assess antidumping duties on all appropriate entries. We invite interested parties to comment on these preliminary results.

DATES: Effective March 6, 2017.

FOR FURTHER INFORMATION CONTACT: Andrew Medley or Alice Maldonado, AD/CVD Operations, Office II, Enforcement and Compliance, International Trade Administration, U.S. Department of Commerce, 1401 Constitution Avenue NW., Washington, DC 20230; telephone: (202) 482-4987 and (202) 482-4682, respectively.

SUPPLEMENTARY INFORMATION:

Scope of the Order

The merchandise subject to the order is certain frozen warmwater shrimp.¹ The product is currently classified under the following Harmonized Tariff Schedule of the United States (HTSUS) item numbers: 0306.17.00.03, 0306.17.00.06, 0306.17.00.09, 0306.17.00.12, 0306.17.00.15, 0306.17.00.18, 0306.17.00.21, 0306.17.00.24, 0306.17.00.27, 0306.17.00.40, 1605.21.10.30, and 1605.29.10.10. Although the HTSUS numbers are provided for convenience and for customs purposes, the written product description remains dispositive.

¹ For a complete description of the scope of the Order, see Memorandum from James Maeder, Senior Director, Office I, for Antidumping and Countervailing Duty Operations, to Ronald K. Lorentzen, Acting Assistant Secretary for Enforcement and Compliance, entitled “Decision Memorandum for the Preliminary Results of the Administrative Review of the Antidumping Duty Order on Certain Frozen Warmwater Shrimp from Thailand,” dated concurrently with, and hereby adopted by, this notice (Preliminary Decision Memorandum).

Methodology

The Department is conducting this review in accordance with section 751(a)(2) of the Tariff Act of 1930, as amended (the Act). Export price and constructed export price are calculated in accordance with section 772 of the Act. Normal value is calculated in accordance with section 773 of the Act.

For a full description of the methodology underlying our conclusions, see the Preliminary Decision Memorandum. The Preliminary Decision Memorandum is a public document and is on file electronically via Enforcement and Compliance's Antidumping and Countervailing Duty Centralized Electronic Service System (ACCESS). ACCESS is available to registered users at https://access.trade.gov, and to all parties in the Central Records Unit, Room B8024 of the main Department of Commerce building. In addition, a complete version of the Preliminary Decision Memorandum can be accessed directly at http://enforcement.trade.gov/frn/. The signed and electronic versions of the Preliminary Decision Memorandum are identical in content. A list of the topics discussed in the Preliminary Decision Memorandum is attached as the Appendix to this notice.

Preliminary Determination of No Shipments

Among the companies under review, five companies properly filed statements reporting that they made no shipments of subject merchandise to the United States during the POR.² Based on the certifications submitted by four of these companies and our analysis of CBP information, we preliminarily determine that the following companies had no reviewable transactions during the POR: (1) Calsonic Kansei (Thailand) Co., Ltd.; (2) Lucky Union Foods Co., Ltd.; (3) Marine Gold Products Ltd. (Marine Gold); ³ and (4) Thai Union Manufacturing Company Limited (Thai Union Manufacturing). The Department finds that it is not appropriate to preliminarily rescind the review with respect to these companies but, rather, to complete the review with respect to these companies and issue appropriate instructions to CBP based on the final results of this review.⁴

² For a full explanation of the Department's analysis, see the Preliminary Decision Memorandum.

³ Shrimp produced and exported by Marine Gold was excluded from the AD Thailand order effective February 1, 2012. See Certain Frozen Warmwater Shrimp From Thailand: Final Results of Antidumping Duty Administrative Review, Partial Rescission of Review, and Revocation of Order (in Part); 2011-2012, 78 FR 42497, 42499 (July 16, 2013) (2011-2012 Thai Shrimp). Accordingly, we are conducting this administrative review with respect to Marine Gold only for shrimp produced in Thailand where Marine Gold acted as either the producer or the exporter (but not both).

⁴ See, e.g., Certain Frozen Warmwater Shrimp From Thailand; Preliminary Results of Antidumping Duty Administrative Review, Partial Rescission of Review, Preliminary Determination of No Shipments; 2012-2013, 79 FR 15951, 15952 (March 24, 2014), unchanged in Certain Frozen Warmwater Shrimp From Thailand: Final Results of Antidumping Duty Administrative Review, Final Determination of No Shipments, and Partial Rescission of Review; 2012-2013, 79 FR 51306 (August 28, 2014).

One of the remaining companies, Grobest Frozen Foods Co., Ltd. (Grobest) failed to provide a complete certification relating to potential sales or entries of subject merchandise during the POR.⁵ Therefore, we preliminarily find that there is insufficient evidence on the record of this review to conclude that Grobest made no shipments of subject merchandise to the United States during the POR.

⁵ See the Department's letter to Grobest, dated March 29, 2016, to which Grobest did not respond.

Preliminary Results of the Review

As a result of this review, we preliminarily determine that weighted-average dumping margins exist for the respondents for the period February 1, 2015, through January 31, 2016, as follows:

⁶ On January 5, 2016, the Department found that Thai Union Group Public Co., Ltd. is the successor-in-interest to Thai Union Frozen Products Public Co., Ltd. See Notice of Final Results of Antidumping Duty Changed Circumstances Review: Certain Frozen Warmwater Shrimp From Thailand, 81 FR 222 (January 5, 2016).

Exporter/producer | Weighted- average dumping margin (percent)
A Foods 1991 Co., Limited/May Ao Foods Co., Ltd | 1.23
Thai Union Frozen Products Public Co., Ltd.⁶/Thai Union Group Public Co., Ltd./Thai Union Seafood Co., Ltd./Pakfood Public Company Limited/Okeanos Food Co., Ltd./Okeanos Co. Ltd./Asia Pacific (Thailand) Co., Ltd.,/Chaophraya Cold Storage Co. Ltd./Takzin Samut Co. Ltd | 0.51

Review-Specific Average Rate Applicable to the Following Non-Selected Companies: ⁷

⁷ This rate is based on the rates for the respondents that were selected for individual review, excluding rates that are zero, de minimis or based entirely on facts available. See section 735(c)(5)(A) of the Act.

⁸ Shrimp produced and exported by Marine Gold Products Ltd. (Marine Gold) were excluded from the antidumping duty order order effective February 1, 2012. See 2011-2012 Thai Shrimp, 78 FR at 42499. Accordingly, we are conducting this administrative review with respect to Marine Gold only for shrimp produced in Thailand where Marine Gold acted as either the manufacturer or exporter (but not both).

Exporter/producer | Estimated weighted- average dumping margin (percent)
A. Wattanachai Frozen Products Co., Ltd | 0.81
A.P. Frozen Foods Co., Ltd | 0.81
A.S. Intermarine Foods Co., Ltd | 0.81
ACU Transport Co., Ltd | 0.81
Ampai Frozen Foods Co., Ltd | 0.81
Anglo-Siam Seafoods Co., Ltd | 0.81
Apex Maritime (Thailand) Co., Ltd | 0.81
Apitoon Enterprise Industry Co., Ltd | 0.81
Applied DB | 0.81
Asian Seafood Coldstorage (Sriracha) | 0.81
Asian Seafoods Coldstorage Public Co., Ltd./Asian Seafoods Coldstorage (Suratthani) Co., Limited/STC Foodpak Ltd | 0.81
Assoc. Commercial Systems | 0.81
B.S.A. Food Products Co., Ltd | 0.81
Bangkok Dehydrated Marine Product Co., Ltd | 0.81
C Y Frozen Food Co., Ltd | 0.81
C.P. Mdse | 0.81
C.P. Merchandising Co., Ltd./Charoen Pokphand Foods Public Co., Ltd./Klang Co., Ltd./Seafoods Enterprise Co., Ltd./Thai Prawn Culture Center Co., Ltd | 0.81
CP Retailing and Marketing Co., Ltd | 0.81
C.P. Intertrade Co. Ltd | 0.81
Calsonic Kansei (Thailand) Co., Ltd | (*)
Century Industries Co., Ltd | 0.81
Chaivaree Marine Products Co., Ltd | 0.81
Chaiwarut Company Limited | 0.81
Charoen Pokphand Foods Public Co., Ltd | 0.81
Charoen Pokphand Petrochemical Co., Ltd | 0.81
Chonburi LC | 0.81
Chue Eie Mong Eak | 0.81
Commonwealth Trading Co., Ltd | 0.81
Core Seafood Processing Co., Ltd | 0.81
C.P.F. Food Products Co., Ltd | 0.81
Crystal Frozen Foods Co., Ltd | 0.81
Crystal Seafood | 0.81
Daedong (Thailand) Co. Ltd | 0.81
Daiei Taigen (Thailand) Co., Ltd | 0.81
Daiho (Thailand) Co., Ltd | 0.81
Dynamic Intertransport Co., Ltd | 0.81
Earth Food Manufacturing Co., Ltd | 0.81
F.A.I.T. Corporation Limited | 0.81
Far East Cold Storage Co., Ltd | 0.81
Fimex VN | 0.81
Findus (Thailand) Ltd | 0.81
Fortune Frozen Foods (Thailand) Co., Ltd | 0.81
Frozen Marine Products Co., Ltd | 0.81
Gallant Ocean (Thailand) Co., Ltd | 0.81
Gallant Seafoods Corporation | 0.81
Global Maharaja Co., Ltd | 0.81
Golden Sea Frozen Foods Co., Ltd | 0.81
Golden Thai Imp. & Exp. Co., Ltd | 0.81
Good Fortune Cold Storage Co. Ltd | 0.81
Good Luck Product Co., Ltd | 0.81
Grobest Frozen Foods Co., Ltd | 0.81
Gulf Coast Crab Intl | 0.81
H.A.M. International Co., Ltd | 0.81
Haitai Seafood Co., Ltd | 0.81
Handy International (Thailand) Co., Ltd | 0.81
Heng Seafood Limited Partnership | 0.81
Heritrade | 0.81
HIC (Thailand) Co., Ltd | 0.81
High Way International Co., Ltd | 0.81
I.S.A. Value Co., Ltd | 0.81
I.T. Foods Industries Co., Ltd | 0.81
Inter-Oceanic Resources Co., Ltd | 0.81
Inter-Pacific Marine Products Co., Ltd | 0.81
K & U Enterprise Co., Ltd | 0.81
K Fresh | 0.81
K.D. Trading Co., Ltd | 0.81
K.L. Cold Storage Co., Ltd | 0.81
KF Foods Ltd | 0.81
Kiang Huat Sea Gull Trading Frozen Food Public Co., Ltd | 0.81
Kibun Trdg | 0.81
Kingfisher Holdings Ltd | 0.81
Kitchens of the Oceans (Thailand) Company, Ltd | 0.81
Kongphop Frozen Foods Co., Ltd | 0.81
Lee Heng Seafood Co., Ltd | 0.81
Leo Transports | 0.81
Li-Thai Frozen Foods Co., Ltd | 0.81
Lucky Union Foods Co., Ltd | (*)
Magnate & Syndicate Co., Ltd | 0.81
Mahachai Food Processing Co., Ltd | 0.81
Mahachai Marine Foods Co., Ltd | 0.81
Marine Gold Products Ltd.⁸ | (*)
Merit Asia Foodstuff Co., Ltd | 0.81
Merkur Co., Ltd. | 0.81
Ming Chao Ind Thailand | 0.81
N&N Foods Co., Ltd | 0.81
N.R. Instant Produce Co., Ltd | 0.81
Namprik Maesri Ltd. Part | 0.81
Narong Seafood Co., Ltd | 0.81
Nongmon SMJ Products | 0.81
Ongkorn Cold Storage Co., Ltd./Thai-Ger Marine Co., Ltd | 0.81
Pacific Queen Co., Ltd | 0.81
Pakpanang Coldstorage Public Co., Ltd | 0.81
Penta Impex Co., Ltd | 0.81
Pinwood Nineteen Ninety Nine | 0.81
Piti Seafood Co., Ltd | 0.81
Premier Frozen Products Co., Ltd | 0.81
Preserved Food Specialty Co., Ltd | 0.81
Queen Marine Food Co., Ltd | 0.81
Rayong Coldstorage (1987) Co., Ltd | 0.81
S&D Marine Products Co., Ltd | 0.81
S&P Aquarium | 0.81
S&P Syndicate Public Company Ltd | 0.81
S. Chaivaree Cold Storage Co., Ltd | 0.81
S. Khonkaen Food Industry Public Co., Ltd. and/or S. Khonkaen Food Ind. Public | 0.81
S.K. Foods (Thailand) Public Co. Limited | 0.81
Samui Foods Company Limited | 0.81
SB Inter Food Co., Ltd | 0.81
SCT Co., Ltd | 0.81
Sea Bonanza Food Co., Ltd | 0.81
SEA NT'L CO., LTD | 0.81
Seafresh Fisheries/Seafresh Industry Public Co., Ltd | 0.81
Search and Serve | 0.81
Sethachon Co., Ltd | 0.81
Shianlin Bangkok Co., Ltd | 0.81
Shing Fu Seaproducts Development Co | 0.81
Siam Food Supply Co., Ltd | 0.81
Siam Haitian Frozen Food Co., Ltd | 0.81
Siam Intersea Co., Ltd | 0.81
Siam Marine Products Co. Ltd | 0.81
Siam Ocean Frozen Foods Co. Ltd | 0.81
Siam Union Frozen Foods | 0.81
Siamchai International Food Co., Ltd | 0.81
Smile Heart Foods Co. Ltd | 0.81
SMP Products, Co., Ltd | 0.81
Southport Seafood Co., Ltd | 0.81
Star Frozen Foods Co., Ltd | 0.81
Starfoods Industries Co., Ltd | 0.81
Suntechthai Intertrading Co., Ltd | 0.81
Surapon Foodsblic Co., Ltd./Surat Seafoods Public Co., Ltd | 0.81
Surapon Nichirei Foods Co., Ltd | 0.81
Suratthani Marine Products Co., Ltd | 0.81
Suree Interfoods Co., Ltd | 0.81
T.S.F. Seafood Co., Ltd | 0.81
Tep Kinsho Foods Co., Ltd | 0.81
Teppitak Seafood Co., Ltd | 0.81
Tey Seng Cold Storage Co., Ltd | 0.81
Thai Agri Foods Public Co., Ltd | 0.81
Thai Hanjin Logistics Co., Ltd | 0.81
Thai Mahachai Seafood Products Co., Ltd | 0.81
Thai Ocean Venture Co., Ltd | 0.81
Thai Patana Frozen | 0.81
Thai Royal Frozen Food Co., Ltd | 0.81
Thai Spring Fish Co., Ltd | 0.81
Thai Union Manufacturing Company Limited | (*)
Thai World Imports and Exports Co., Ltd | 0.81
Thai Yoo Ltd., Part | 0.81
The Siam Union Frozen Foods Co., Ltd | 0.81
The Union Frozen Products Co., Ltd./Bright Sea Co., Ltd | 0.81
Trang Seafood Products Public Co., Ltd | 0.81
Transamut Food Co., Ltd | 0.81
Tung Lieng Tradg | 0.81
United Cold Storage Co., Ltd | 0.81
UTXI Aquatic Products Processing Company | 0.81
V. Thai Food Product Co., Ltd | 0.81
Wann Fisheries Co., Ltd | 0.81
Xian-Ning Seafood Co., Ltd | 0.81
Yeenin Frozen Foods Co., Ltd | 0.81
ZAFCO TRDG | 0.81
* No shipments or sales subject to this review.

Disclosure and Public Comment

The Department intends to disclose the calculations performed in connection with these preliminary results to interested parties within five days after the date of publication of this notice.⁹ Interested parties may submit cases briefs to the Department no later than 30 days after the date of publication of this notice.¹⁰ Rebuttal briefs, limited to issues raised in the case briefs, may be filed no later than five days after the time limit for filing case briefs.¹¹ Parties who submit case briefs or rebuttal briefs in this proceeding are encouraged to submit with each argument: (1) A statement of the issue; (2) a brief summary of the argument; and (3) a table of authorities.¹² Case and rebuttal briefs should be filed using ACCESS.¹³

⁹ See 19 CFR 351.224(b).

¹⁰ See 19 CFR 351.309(c).

¹¹ See 19 CFR 351.309(d).

¹² See 19 CFR 351.309(c)(2) and (d)(2).

¹³ See 19 CFR 351.303.

Pursuant to 19 CFR 351.310(c), interested parties who wish to request a hearing must submit a written request to the Assistant Secretary for Enforcement and Compliance, filed electronically via ACCESS. An electronically-filed document must be received successfully in its entirety by ACCESS by 5 p.m. Eastern Time within 30 days after the date of publication of this notice.¹⁴ Hearing requests should contain: (1) The party's name, address, and telephone number; (2) the number of participants; and (3) a list of issues to be discussed. Issues raised in the hearing will be limited to issues raised in the briefs. If a request for a hearing is made, parties will be notified of the time and date for the hearing to be held at the U.S. Department of Commerce, 1401 Constitution Avenue NW., Washington, DC 20230.¹⁵

¹⁴ See 19 CFR 351.310(c).

¹⁵ Id.

The Department intends to issue the final results of this administrative review, including the results of its analysis raised in any written briefs, not later than 120 days after the publication date of this notice, pursuant to section 751(a)(3)(A) of the Act.

Assessment Rates

Upon completion of the administrative review, the Department shall determine, and CBP shall assess, antidumping duties on all appropriate entries covered by this review.

Pursuant to 19 CFR 351.212(b)(1), where Mayao and Thai Union/Pakfood reported the entered value for of their U.S. sales, we calculated importer-specific ad valorem duty assessment rates based on the ratio of the total amount of antidumping duties calculated for the examined sales to the total entered value of the sales for which entered value was reported. Where Mayao and Thai Union/Pakfood have not reported entered value, we calculated the entered value in order to calculate the assessment rates. Where either the respondent's weighted-average dumping margin is zero or de minimis within the meaning of 19 CFR 351.106(c), or an importer-specific rate is zero or de minimis, we will instruct CBP to liquidate the appropriate entries without regard to antidumping duties.

For the companies which were not selected for individual review, we will assign an assessment rate based on the average ¹⁶ of the cash deposit rates calculated for the companies selected for mandatory review (i.e., Mayao and Thai Union), excluding any which are de minimis or determined entirely on adverse facts available. The final results of this review shall be the basis for the assessment of antidumping duties on entries of merchandise covered by the final results of this review and for future deposits of estimated duties, where applicable.¹⁷

¹⁶ This rate will be calculated as discussed in footnote 5, above.

¹⁷ See section 751(a)(2)(C) of the Act.

We intend to issue liquidation instructions to CBP 15 days after publication of the final results of this review.

Cash Deposit Requirements

The following deposit requirements will be effective for all shipments of the subject merchandise entered, or withdrawn from warehouse, for consumption on or after the publication date of the final results of this administrative review, as provided by section 751(a)(2)(C) of the Act: (1) The cash deposit rate for each specific company listed above will be that established in the final results of this review, except if the rate is less than 0.50 percent and, therefore, de minimis within the meaning of 19 CFR 351.106(c)(1), in which case the cash deposit rate will be zero; (2) for previously reviewed or investigated companies not participating in this review, the cash deposit will continue to be the company-specific rate published for the most recently completed segment; (3) if the exporter is not a firm covered in this review, or the original less-than-fair-value investigation, but the manufacturer is, the cash deposit rate will be the rate established for the most recent segment for the manufacturer of the merchandise; and (4) the cash deposit rate for all other manufacturers or exporters will continue to be 5.34 percent, the all-others rate made effective by the Section 129 Determination.¹⁸ These deposit requirements, when imposed, shall remain in effect until further notice.

¹⁸ See Implementation of the Findings of the WTO Panel in United States Antidumping Measure on Shrimp From Thailand: Notice of Determination Under Section 129 of the Uruguay Round Agreements Act and Partial Revocation of the Antidumping Duty Order on Frozen Warmwater Shrimp From Thailand, 74 FR 5638 (January 30, 2009) (Section 129 Determination).

Notification to Importers

This notice also serves as a preliminary reminder to importers of their responsibility under 19 CFR 351.402(f) to file a certificate regarding the reimbursement of antidumping duties prior to liquidation of the relevant entries during this review period. Failure to comply with this requirement could result in the Secretary's presumption that reimbursement of antidumping duties occurred and the subsequent assessment of double antidumping duties.

We are issuing and publishing these results in accordance with sections 751(a)(1) and 777(i)(1) of the Act.

Dated: February 28, 2017.
Ronald K. Lorentzen,
Acting Assistant Secretary for Enforcement and Compliance.

Appendix—List of Topics Discussed in the Preliminary Decision Memorandum

1. Summary

2. Background

3. Scope of the Order

4. Preliminary Determination of No Shipments

5. Discussion of the Methodology

a. Normal Value Comparisons

i. Determination of Comparison Method

ii. Results of Differential Pricing Analysis

b. Product Comparisons

c. Export Price/Constructed Export Price

d. Normal Value

i. Home Market Viability

ii. Affiliated-Party Transactions and Arm's-Length Test

iii. Level of Trade

iv. Cost of Production Analysis

1. Calculation of Cost of Production

2. Test of Comparison Market Sales Prices

3. Results of the COP Test

v. Calculation of Normal Value Based on Comparison Market Prices

vi. Calculation of Normal Value Based on Constructed Value

6. Currency Conversion

7. Recommendation

[FR Doc. 2017-04275 Filed 3-3-17; 8:45 am]

BILLING CODE 3510-DS-P